DEPARTMENT OF THE TREASURY

Internal Revenue Service

26 CFR Part 31

[REG-111583-07]

RIN 1545-BG50

Employment Tax Adjustments; Hearing

AGENCY: Internal Revenue Service (IRS), Treasury.

ACTION: Cancellation of notice of public hearing on proposed rulemaking.

SUMMARY: This document cancels a public hearing on proposed rulemaking relating to employment tax adjustments and employment tax refund claims.

DATES: The public hearing, originally scheduled for April 17, 2008, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Monday, December 31, 2007 (72 FR 74233), announced that a public hearing was scheduled for April 17, 2008, at 10 a.m., in the auditorium, Internal Revenue Building, 1111 Constitution Avenue, NW., Washington, DC. The subject of the public hearing is under sections 6011, 6205, 6302, 6402, 6413, and 6414 of the Internal Revenue Code.

The public comment period for these regulations expired on March 27, 2008. Outlines of topics to be discussed at the hearing were due on March 27, 2008. The notice of proposed rulemaking and notice of public hearing instructed those interested in testifying at the public hearing to submit an outline of the topics to be addressed. As of Friday, March 28, 2008, no one has requested to speak. Therefore, the public hearing scheduled for April 17, 2008, is cancelled.

Cynthia Grigsby,
Acting Chief, Publications and Regulations Branch, Legal Processing Division, Associate Chief Counsel (Procedure and Administration).

[FR Doc. E8-7224 Filed 4-4-08; 8:45 am]

BILLING CODE 4830-01-P